DEPARTMENT OF THE INTERIOR

National Park Service

[NPS-MWR-RIRA-18129; PS.SMWLA0064.00.1]

Description of Land Designated as River Raisin National Battlefield Park

AGENCY: National Park Service, Interior.

ACTION: Notice of Land Description.

SUMMARY: This notice sets out the legal description of the land acquired by the United States that currently constitutes River Raisin National Battlefield Park (Park). A map depicting this property is available for public inspection and on file at the National Park Service locations identified below.

DATES: The effective date of the Park's designation was November 10, 2010. The effective date of this notice is July 31, 2015.

ADDRESSES: The map depicting this federally owned land is available for inspection at the following locations: River Raisin National Battlefield Park, 1403 East Elm Avenue, Monroe, Michigan 48162, and National Park Service, Department of the Interior, 1849 C Street NW., Washington, DC 20240.

FOR FURTHER INFORMATION CONTACT: Chief Realty Officer Daniel L. Betts, National Park Service, Land Resources Program Center, Midwest Region, 601 Riverfront Drive, Omaha, Nebraska 68102, telephone (402) 661-1780.

SUPPLEMENTARY INFORMATION: Pursuant to the requirements of Section 7003 of the Omnibus Public Land Management Act of 2009, Public Law 111-11 (codified at 16 U.S.C. Sec. 430vv) and by notice published in the Federal Register on November 10, 2010 (FR Vol. 75, No. 217, page 69125), the Secretary of the Interior announced that sufficient lands had been acquired to designate River Raisin National Battlefield Park as a unit of the National Park System. Public Law 111-11 further required that the Secretary prepare a legal description of the land so designated as the Park. The Secretary of the Interior hereby announces that the boundary of River Raisin National Battlefield Park is comprised of the following described real property, which is owned in fee simple by the United States of America:

A parcel of land situated in the City of Monroe, Monroe County, Michigan, being a part of Private Claims 64, 81, 96, 214 and 236 described as: Commencing at the intersection of the Northerly right-of-way line of Elm Avenue and the Westerly right-of-way line of Detroit Avenue, also being the Point of Beginning and monumented by a found ⅝″ iron rod; Thence along the Northerly right-of-way line of Elm Avenue the following three (3) courses:

(1) North 42 Degrees 30 Minutes 50 Seconds West, 93.71 feet to a set ½″ iron rod with Cap number 50457 and

(2) North 39 Degrees 39 Minutes 03 Seconds West, 722.92 feet to a found ½″ iron rod and

(3) North 32 Degrees 33 Minutes 04 Seconds West, 79.60 feet to a found pinched pipe;

Thence North 57 Degrees 26 Minutes 32 Seconds East, 92.00 feet to a set ½″ iron rod with Cap Number 50457; Thence North 32 Degrees 33 Minutes 04 Seconds West, 399.30 feet to a found ¾″ iron rod; Thence South 57 Degrees 26 minutes 32 Seconds West, 92.00 feet to a found pinched pipe on the Northerly right-of-way line of Elm Avenue, Thence along the Northerly right-of-way line of Elm Avenue the following three (3) courses:

(1) North 32 Degrees 33 Minutes 04 Seconds West, 146.09 feet to a found ¾″ iron rod and

(2) North 53 Degrees 45 Minutes 29 Seconds West, 226.06 feet to a set 2½″ mag nail and

(3) North 69 Degrees 27 Minutes 00 Seconds West, 69.98 feet to a set ½″ iron rod with Cap number 50457 on the easterly right-of-way line of the Grand Trunk Western Railroad (Canadian National);

Thence along the Easterly right-of-way line of said Grand Trunk Western Railroad (Canadian National) the following five (5) courses:

(1) North 21 Degrees 24 Minutes 05 Seconds East, 84.34 feet to a found 1″ diameter pipe and

(2) North 31 Degrees 54 Minutes 43 Seconds East, 567.33 feet to a point of curvature and a found pinched pipe and

(3) along a curve to the right 107.17 feet, said curve having a central angle of 10 Degrees 43 Minutes 01 Seconds, radius of 572.96 feet, and a chord bearing and distance of North 37 Degrees 16 Minutes 14 Seconds East, 107.01 feet to a point of reverse curvature and a found ½″ pipe with Cap number 19474 and

(4) along a curve to the left 107.17 feet, said curve having a central angle of 10 Degrees 43 Minutes 01 Seconds, radius of 572.96 feet, and a chord bearing and distance of North 37 Degrees 16 Minutes 14 Seconds East, 107.01 feet to a set ½″ iron rod with Cap number 50457 and

(5) North 31 Degrees 54 Minutes 43 Seconds East, 67.75 feet to found ½″ bent iron rod on the north line of a drainage easement for the Mason Run Drain, as recorded in Liber 3126, Page 428, Monroe County records;

Thence along the North line of said drainage easement for the Mason Run Drain the following two (2) courses:

(1) South 62 Degrees 44 Minutes 45 Seconds East, 368.79 feet to a found ½″ iron rod with an illegible Cap number and

(2) South 78 Degrees 44 Minutes 45 Seconds East, 438.81 feet to a set ½″ iron rod with Cap number 50457 on the westerly line of “Harbor View Subdivision”, as recorded in Liber 6 of Plats, Page 39;

Thence along said westerly line of “Harbor View Subdivision” South 21 Degrees 42 Minutes 11 Seconds West, 72.45 feet to a found ½″ pipe with Cap number 19474, said point being on the Southerly line of “Harbor View Subdivision”; Thence along said southerly line of “Harbor View Subdivision” the following three (3) courses:

(1) South 72 Degrees 17 Minutes 49 Seconds East, 279.18 feet to a set ½″ iron rod with Cap number 50457 and

(2) South 68 Degrees 25 Minutes 49 Seconds East, 159.34 feet to a set ½″ iron rod with Cap number 50457 and

(3) South 49 Degrees 28 Minutes 49 Seconds East, 111.93 feet to a set ½″ iron rod with Cap Number 50457 on the westerly right-of-way line of Detroit Avenue;

Thence along the Westerly right-of-way line of Detroit Avenue the following three (3) courses:

(1) South 21 Degrees 36 Minutes 13 Seconds West, 962.83 feet to a found ½″ pipe rod with Cap Number 19474 and

(2) South 21 Degrees 36 Minutes 13 Seconds West, 234.92 feet to a found ½″ pipe with Cap Number 19474 and

(3) South 21 Degrees 36 Minutes 13 Seconds West, 480.77 feet to a found ⅝″ iron rod, said point being the Point of Beginning.

Containing 42.18 acres, more or less.

Dated: April 14, 2015.
Cameron H. Sholly,
Regional Director, Midwest Region.

Editorial note: This document was received at the Office of the Federal Register on July 28th 2015.

[FR Doc. 2015-18803 Filed 7-30-15; 8:45 am]

BILLING CODE 4310-MA-P